DEPARTMENT OF HOMELAND SECURITY

Announcement of Requirements and Registration for the National Radiological and Nuclear Detection Challenge; Correction

AGENCY: Domestic Nuclear Detection Office, DHS.

ACTION: Notice; amendment.

Authority: 15 U.S.C. 3719.

SUMMARY: DNDO published a notice in the Federal Register of May 8, 2013, to announce the National Radiological and Nuclear Detection Challenge (Rad/Nuc Challenge), a participation challenge being conducted under the America Competes Reauthorization Act, for state, local, and tribal law enforcement, other first responders, public safety officials, and Civil Support Team members. This event was postponed and a correction was published in the Federal Register of July 30, 2013. This event has now been cancelled requiring an additional amendment to the original notice.

FOR FURTHER INFORMATION CONTACT: Timothy Smith, (202) 254-7297, Radnucchallenge@hq.dhs.gov.

Amendment

Amend FR Doc. 2013-10928 as follows:

On May 8, 2013, the Department of Homeland Security (DHS), Domestic Nuclear Detection Office (DNDO), announced the National Radiological and Nuclear Detection Challenge (Rad/Nuc Challenge), a participation challenge authorized under 15 U.S.C. 3719(c)(3), for state, local, and tribal law enforcement, other first responders, public safety officials, and Civil Support Team members. In lieu of hosting a separate standalone Rad/Nuc Challenge, DNDO will work with the Urban Area Security Initiative competition, Urban Shield, to incorporate a radiological and nuclear detection competitive exercise. This notice formally cancels the Rad/Nuc Challenge.

SUPPLEMENTARY INFORMATION: The purpose of the Rad/Nuc Challenge was to increase proficiency, improve Concepts of Operations, and promote proper use of radiological and nuclear detection equipment by state and local agencies in support of the domestic radiological and nuclear detection mission to prevent the illicit use and/or movement of radioactive materials within the United States. By integrating into existing competitive exercises like Urban Shield, DNDO will provide a similar competitive exercise format that will continue to promote the radiological and nuclear detection mission.

DNDO will provide announcements on opportunities to participate in competitive radiological and nuclear detection exercises to a community distribution list.

To be added to the email distribution list for radiological and nuclear detection competitive event announcements, or for additional information, please contact Timothy Smith, DHS, DNDO, by email at radnucchallenge@hq.dhs.gov.

Dated: April 25, 2014.
Huban A. Gowadia,
Director, Domestic Nuclear Detection Office.

[FR Doc. 2014-12577 Filed 5-29-14; 8:45 am]

BILLING CODE 9110-9D-P